DEPARTMENT OF HOUSING AND URBAN DEVELOPMENT

[Docket No. FR-4815-N-81]

Notice of Submission of Proposed Information Collection to OMB; Emergency Comment Request; Needs Assessment Survey for Farmworkers of Manatee County, FL

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

The Department is proposing a survey of the housing needs of the farmworkers and their families who reside in Manatee County, Florida.

DATES: Comments Due Date: October 17, 2003.

ADDRESSES: Interested persons are invited to submit comments regarding this proposal.

Comments must be received within seven (7) days from the date of this Notice. Comments should refer to the proposal by name and should be sent to: Lauren Wittenberg, HUD Desk Officer, Office of Management and Budget, New Executive Office Building, Washington, DC 20503; e-mail: Lauren_Wittenberg@omb.eop.gov; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing, a proposed revision to the currently approved information collection for selecting applicants for the Fair Housing Initiatives (FHIP) Program grants.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Needs Assessment Survey for Farmworkers of Manatee County, Florida.

Description of Information Collection: The goal of this proposed data collection is to provide a detailed baseline of existing conditions among the farmworkers and their families who reside in Manatee County, Florida. This information is needed by Manatee County planning agencies to create a regional community development plan that effectively addresses farmworker housing and social service needs. The needs assessment will allow county officials and housing providers to:

(1) Engage in mid-to long-term planning for affordable housing and community service programs for low-income working persons and families;

(2) Conduct a housing stock assessment;

(3) Identify the major needs of the farmworker population; and improve program planning and management of available resources to increase access by farmworkers.

OMB Control Number: 2535—to be assigned.

Agency Form Numbers: None.

Members of Affected Public: Individuals and Households.

Estimation of the total numbers of hours needed to prepare the information collection including number of respondents, frequency of responses, and hours of response: An estimation of the total number of respondents is 400; each response is estimated to require 0.5 hours; and the total public burden is estimated to be 200 hours.

Authority: The Paperwork Reduction Act of 1995, 44 U.S.C. chapter 35, as amended.

Dated: October 3, 2003.
Wayne Eddins,
Departmental Reports Management Officer, Office of the Chief Information Officer.

[FR Doc. 03-25679 Filed 10-9-03; 8:45 am]

BILLING CODE 4210-72-P